DEPARTMENT OF STATE

[Public Notice 8976]

U.S. Department of State Advisory Committee on Private International Law (ACPIL): Public Meeting on the Hague Trusts Convention

The Office of the Assistant Legal Adviser for Private International Law in the Department of State gives notice of a public meeting to discuss the Convention on the Law Applicable to Trusts and on Their Recognition, which was done at The Hague on July 1, 1985 (hereinafter “Hague Trusts Convention” or “Convention”). The public meeting will take place on Wednesday, January 21, 2015, from 10:30 a.m. until 12:30 p.m. EST. This is not a meeting of the full Advisory Committee.

The purpose of the public meeting is to assess the current level of interest among domestic stakeholders in the Hague Trusts Convention. The Convention was signed on behalf of the United States on June 13, 1988, but the United States is not a party. Eleven countries, in whole or in part, are parties to the Convention, including most common-law jurisdictions and a small number of civil-law countries in Europe.

The Office of the Assistant Legal Adviser for Private International Law is considering whether U.S. ratification of the Convention would be beneficial, as part of a more general initiative to try to address the domestic implementation of private international law treaties. For example, it would be useful to learn of the types of issues that may be confronted by those persons involved in handling trusts that have cross-border aspects, and the potential impact that the Convention would have on these issues.

Time and Place: The meeting will take place from 10:30 a.m. until 12:30 p.m. EST on January 21, in Room 240, South Building, State Department Annex 4, Washington, DC 20037. Participants should plan to arrive at the Navy Hill gate on the west side of 23rd Street NW., at the intersection of 23rd Street NW., and D Street NW., by 10:00 a.m. for visitor screening. If you are unable to attend the public meeting and would like to participate from a remote location, teleconferencing will be available. Those who cannot attend but wish to comment are welcome to do so by email to John Kim at kimmjj@state.gov.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than January 14, 2015. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities.

The data will be entered into the Visitor Access Control System (VACS-D) database. Please see the Security Records System of Records Notice (State-36) at http://www.state.gov/documents/organization/103419.pdf for additional information.

Dated: December 5, 2014.
John J. Kim,
Assistant Legal Adviser, Office of Private International Law, Office of the Legal Adviser, U.S. Department of State.

[FR Doc. 2014-29596 Filed 12-16-14; 8:45 am]

BILLING CODE 4710-08-P